DEPARTMENT OF ENERGY

Federal Energy Regulatory Commission

Combined Notice of Filings #1

Take notice that the Commission received the following electric corporate filings:

Docket Numbers: EC21-14-000.

Applicants: TCT Generation Holdings, LLC, Global Energy & Power Infrastructure Fund III, L.P.

Description: Application for Authorization Under Section 203 of the Federal Power Act, et al. of TCT Generation Holdings, LLC, et al.

Filed Date: 10/27/20.

Accession Number: 20201027-5190.

Comments Due: 5 p.m. ET 11/17/20.

Docket Numbers: EC21-15-000.

Applicants: SunE Beacon Site 2 LLC, SunE Beacon Site 5 LLC.

Description: Application for Authorization Under Section 203 of the Federal Power Act, et al. of SunE Beacon Site 2 LLC, et al.

Filed Date: 10/27/20.

Accession Number: 20201027-5192.

Comments Due: 5 p.m. ET 11/17/20.

Take notice that the Commission received the following exempt wholesale generator filings:

Docket Numbers: EG21-15-000.

Applicants: BT Kellam Solar, LLC.

Description: Self-Certification of BT Kellam Solar, LLC as an Exempt Wholesale Generator.

Filed Date: 10/28/20.

Accession Number: 20201028-5129.

Comments Due: 5 p.m. ET 11/18/20.

Take notice that the Commission received the following electric rate filings:

Docket Numbers: ER20-2341-001.

Applicants: Midcontinent Independent System Operator, Inc.

Description: Compliance filing: 2020-10-28 SA 3518 Deficiency Response ITC Midwest-Interstate Power FSA (J416) to be effective 7/1/2020.

Filed Date: 10/28/20.

Accession Number: 20201028-5070.

Comments Due: 5 p.m. ET 11/18/20.

Docket Numbers: ER20-2352-001.

Applicants: Midcontinent Independent System Operator, Inc.

Description: Compliance filing: 2020-10-28_SA 1972 Deficiency Response GRE-OTP 4th Rev GIA (G645 G788) to be effective 7/6/2020.

Filed Date: 10/28/20.

Accession Number: 20201028-5086.

Comments Due: 5 p.m. ET 11/18/20.

Docket Numbers: ER20-2364-001.

Applicants: Midcontinent Independent System Operator, Inc.

Description: Compliance filing: 2020-10-28_SA 3512 Deficiency Response NSP-NSP FSA (J399) to be effective 6/30/2020.

Filed Date: 10/28/20.

Accession Number: 20201028-5019.

Comments Due: 5 p.m. ET 11/18/20.

Docket Numbers: ER20-2382-001.

Applicants: Midcontinent Independent System Operator, Inc.

Description: Compliance filing: 2020-10-28_SA 3516 Deficiency Response Ameren-Broadlands Wind Farm FSA (J468) to be effective 10/1/2020.

Filed Date: 10/28/20.

Accession Number: 20201028-5033.

Comments Due: 5 p.m. ET 11/18/20.

Docket Numbers: ER20-2408-001.

Applicants: Midcontinent Independent System Operator, Inc.

Description: Compliance filing: 2020-10-28 SA 3524 Deficiency Response Ameren-Broadlands Wind FSA (FCA) (J468) to be effective 10/1/2020.

Filed Date: 10/28/20.

Accession Number: 20201028-5047.

Comments Due: 5 p.m. ET 11/18/20.

Docket Numbers: ER20-2412-001.

Applicants: Midcontinent Independent System Operator, Inc.

Description: Compliance filing: 2020-10-28_SA 3513 Deficiency Response NSP-Stoneray Power Partners FSA (J426) to be effective 6/30/2020.

Filed Date: 10/28/20.

Accession Number: 20201028-5021.

Comments Due: 5 p.m. ET 11/18/20.

Docket Numbers: ER20-2427-001.

Applicants: Midcontinent Independent System Operator, Inc.

Description: Compliance filing: 2020-10-28_SA 3521 Deficiency Response NSP-Red Pine Wind FSA (H081) to be effective 6/30/2020.

Filed Date: 10/28/20.

Accession Number: 20201028-5028.

Comments Due: 5 p.m. ET 11/18/20.

Docket Numbers: ER20-2437-001.

Applicants: Midcontinent Independent System Operator, Inc.

Description: Compliance filing: 2020-10-28_SA 3519 Deficiency Response NSP-North Star Solar FSA (J385) to be effective 6/30/2020.

Filed Date: 10/28/20.

Accession Number: 20201028-5029.

Comments Due: 5 p.m. ET 11/18/20.

Docket Numbers: ER20-2439-001.

Applicants: Midcontinent Independent System Operator, Inc.

Description: Compliance filing: 2020-10-28_SA 3514 Deficiency Response NSP-Marshall Solar FSA (J400) to be effective 6/30/2020.

Filed Date: 10/28/20.

Accession Number: 20201028-5027.

Comments Due: 5 p.m. ET 11/18/20.

Docket Numbers: ER21-222-000

Applicants: Hog Creek Wind Project, LLC.

Description: Baseline eTariff Filing: Reactive Power Compensation Filing to be effective 10/28/2020.

Filed Date: 10/27/20.

Accession Number: 20201027-5155.

Comments Due: 5 p.m. ET 11/17/20.

Docket Numbers: ER21-223-000.

Applicants: Union Electric Company.

Description: § 205(d) Rate Filing: Rate Schedule 22 to be effective 12/29/2020.

Filed Date: 10/27/20.

Accession Number: 20201027-5175.

Comments Due: 5 p.m. ET 11/17/20.

Docket Numbers: ER21-224-000.

Applicants: Pacific Gas and Electric Company.

Description: § 205(d) Rate Filing: Q3 2020 Quarterly Filing of City and County of San Francisco's WDT SA (SA 275) to be effective 9/30/2020.

Filed Date: 10/28/20.

Accession Number: 20201028-5000.

Comments Due: 5 p.m. ET 11/18/20.

Docket Numbers: ER21-225-000.

Applicants: Southwest Power Pool, Inc.

Description: § 205(d) Rate Filing: 2825R8 KMEA and Evergy Kansas Central Meter Agent Agreement to be effective 11/1/2020.

Filed Date: 10/28/20.

Accession Number: 20201028-5012.

Comments Due: 5 p.m. ET 11/18/20.

Docket Numbers: ER21-226-000.

Applicants: PJM Interconnection, L.L.C.

Description: Compliance filing: Notice of Cancellation of T154 WMPA, SA No. 2400 to be effective N/A.

Filed Date: 10/28/20.

Accession Number: 20201028-5038.

Comments Due: 5 p.m. ET 11/18/20.

Docket Numbers: ER21-227-000.

Applicants: PJM Interconnection, L.L.C.

Description: § 205(d) Rate Filing: First Revised ISA, Service Agreement No. 4082; Queue No. AD2-112 to be effective 9/29/2020.

Filed Date: 10/28/20.

Accession Number: 20201028-5052.

Comments Due: 5 p.m. ET 11/18/20.

Docket Numbers: ER21-228-000.

Applicants: GridLiance West LLC.

Description: Compliance filing: GLW TRBAA 2021 Annual Update to be effective 1/1/2021.

Filed Date: 10/28/20.

Accession Number: 20201028-5073.

Comments Due: 5 p.m. ET 11/18/20.

Docket Numbers: ER21-229-000.

Applicants: Southwest Power Pool, Inc.

Description: § 205(d) Rate Filing: Bylaws Revisions to Add Seats to Human Resources Committee and Finance Committee to be effective 1/1/2021.

Filed Date: 10/28/20.

Accession Number: 20201028-5089.

Comments Due: 5 p.m. ET 11/18/20.

Docket Numbers: ER21-230-000.

Applicants: Southwest Power Pool, Inc.

Description: § 205(d) Rate Filing: Revisions to Bylaws to Modify Duties of the Board of Directors to be effective 1/1/2021.

Filed Date: 10/28/20.

Accession Number: 20201028-5098.

Comments Due: 5 p.m. ET 11/18/20.

Docket Numbers: ER21-231-000.

Applicants: West Medway II, LLC.

Description: § 205(d) Rate Filing: Notice of Succession to be effective 10/9/2020.

Filed Date: 10/28/20.

Accession Number: 20201028-5109.

Comments Due: 5 p.m. ET 11/18/20.

Docket Numbers: ER21-232-000.

Applicants: Alabama Power Company.

Description: § 205(d) Rate Filing: OATT and Related Service Agreements Amendments relating to FPL & Gulf Merger to be effective 1/1/2021.

Filed Date: 10/28/20.

Accession Number: 20201028-5123.

Comments Due: 5 p.m. ET 11/18/20.

Docket Numbers: ER21-233-000.

Applicants: Alabama Power Company.

Description: § 205(d) Rate Filing: TFCAT and Related Service Agreements Amendments relating to FPL & Gulf Merger to be effective 1/1/2021.

Filed Date: 10/28/20.

Accession Number: 20201028-5125.

Comments Due: 5 p.m. ET 11/18/20.

Docket Numbers: ER21-234-000.

Applicants: Alabama Power Company.

Description: § 205(d) Rate Filing: Transition Services Agreement Amendment relating to FPL & Gulf Merger to be effective 1/1/2021.

Filed Date: 10/28/20.

Accession Number: 20201028-5127.

Comments Due: 5 p.m. ET 11/18/20.

Docket Numbers: ER21-235-000.

Applicants: Alabama Power Company.

Description: § 205(d) Rate Filing: IIC Amendment Filing Relating to FPL & Gulf Merger to be effective 1/1/2021.

Filed Date: 10/28/20.

Accession Number: 20201028-5130.

Comments Due: 5 p.m. ET 11/18/20.

Docket Numbers: ER21-236-000.

Applicants: Alabama Power Company.

Description: § 205(d) Rate Filing: Amendment of Southern's Tariff Vol. No. 4 relating to Merger of FPL & Gulf Power to be effective 1/1/2021.

Filed Date: 10/28/20.

Accession Number: 20201028-5132.

Comments Due: 5 p.m. ET 11/18/20.

Take notice that the Commission received the following electric securities filings:

Docket Numbers: ES20-54-000.

Applicants: Oklahoma Gas and Electric Company.

Description: Amendment [Exhibits C and D] to September 24, 2020 Application Under Section 204 of the Federal Power Act for Authorization to Issue Securities of Oklahoma Gas and Electric Company.

Filed Date: 10/27/20.

Accession Number: 20201027-5194.

Comments Due: 5 p.m. ET 11/17/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2020.
Nathaniel J. Davis, Sr.,
Deputy Secretary.

[FR Doc. 2020-24309 Filed 11-2-20; 8:45 am]

BILLING CODE 6717-01-P